DEPARTMENT OF HEALTH AND HUMAN SERVICES

National Institutes of Health

Announcement of Availability of the Fifteenth Report on Carcinogens

AGENCY: National Institutes of Health, HHS.

ACTION: Notice.

SUMMARY: The Department of Health and Human Services released the 15th Report on Carcinogens (RoC) to the public on December 21, 2021. The report is available on the RoC website at: https://ntp.niehs.nih.gov/go/roc or from the Office of the RoC (see ADDRESSES below).

DATES: The 15th RoC is available to the public on December 21, 2021.

ADDRESSES: Dr. Ruth Lunn, Integrated Health Effects Branch, Division of the NTP, NIEHS, P.O. Box 12233, MD K2-14, Research Triangle Park, NC 27709; telephone: (919) 316-4637; FAX: (301) 480-2970; lunn@niehs.nih.gov.

FOR FURTHER INFORMATION CONTACT: Questions or comments concerning the 15th RoC should be directed to Dr. Ruth Lunn (telephone: 919-316-4637 or lunn@niehs.nih.gov).

SUPPLEMENTARY INFORMATION:

Background Information on the RoC

This notice is in accordance with the Public Health Service Act Section 301(b)(4). The Report on Carcinogens (RoC) is a Congressionally mandated document that identifies and discusses agents, substances, mixtures, or exposure circumstances (collectively referred to as “substances”) that may pose a hazard to human health because of their carcinogenicity. Substances are listed in the report as either known or reasonably anticipated to be human carcinogens. The listing of a substance in the RoC indicates a potential hazard; it does not establish the exposure conditions that pose a cancer hazard to individuals in their daily lives. For each listed substance, the RoC provides information from cancer studies that support the listing, as well as information about potential sources of exposure and current federal regulations to limit exposures. Each edition of the RoC is cumulative, that is, it lists newly reviewed substances in addition to substances listed in the previous edition. Information about the RoC is available on the RoC website (http://ntp.niehs.nih.gov/go/roc) or by contacting Dr. Lunn (see ADDRESSES above).

The National Institute of Environmental Health Science, National Toxicology Program (NTP) prepares the RoC on behalf of the Secretary of Health and Human Services. For the 15th RoC, NTP followed an established, multi-step process with multiple opportunities for public input, and used established criteria to evaluate the scientific evidence on each candidate substance under review (http://ntp.niehs.nih.gov/go/rocprocess).

New Listings in the 15th RoC

The 15th RoC contains 256 listings, some of which consist of a class of structurally related chemicals or agents. There are eight new listings in this edition. The new listing in the category of known to be a human carcinogen is Helicobacter pylori (chronic infection). Seven of the new listings are in the category of reasonably anticipated to be a human carcinogen: Antimony trioxide and six haloacetic acids found as water disinfection by-products, including bromochloroacetic acid, bromodichloroacetic acid, chlorodibromoacetic acid, dibromoacetic acid, dichloroacetic acid, and tribromoacetic acid.

Dated: December 20, 2021.
Richard P. Woychik,
Director, National Institute of Environmental Health Science and National Toxicology Program.

[FR Doc. 2021-27910 Filed 12-22-21; 8:45 am]

BILLING CODE 4140-01-P